INTERNATIONAL TRADE COMMISSION

[Investigation No. 337-TA-927]

Certain Noise Cancelling Headphones and Components Thereof; Commission Determination Not To Review an Initial Determination Granting a Joint Motion To Terminate the Investigation Based on a Settlement Agreement

AGENCY: U.S. International Trade Commission.

ACTION: Notice.

SUMMARY: Notice is hereby given that the U.S. International Trade Commission has determined not to review an initial determination (“ID”) (Order No. 7) issued by the presiding administrative law judge (“ALJ”) granting a joint motion to terminate the investigation based on a settlement agreement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov . The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, 19 U.S.C. 1337, on September 2, 2014, based on a complaint filed by Bose Corporation of Framingham, Massachusetts (“Bose”). See 79 FR 52041 (Sep. 2, 2014). The complaint alleges violations of section 337 of the Tariff Act of 1930, as amended, 19 U.S.C. 1337, in the importation into the United States, the sale for importation, and the sale within the United States after importation of certain noise cancelling headphones and components thereof by reason of infringement of certain claims of U.S. Patent Nos. 6,717,537; 8,073,150; 8,073,151; 8,054,992; and 8,345,888. The respondents named in the Commission's notice of investigation are Beats Electronics, LLC of Culver City, California; Beats Electronics International Ltd. of Dublin, Ireland; Fugang Electronic (Dong Guan) Co. Ltd. of Guang-Dong, China; and PCH International Ltd. of Blackrock, Cork, Ireland (collectively, “Beats”). A Commission investigative attorney (“the IA”) is participating in the investigation.

On October 10, 2014, complainant Bose and respondents Beats filed a joint motion to terminate this investigation in its entirety based on a settlement agreement, and a memorandum in support thereof. The IA filed a response supporting the motion.

On October 15, 2014, the ALJ issued the subject ID finding that the joint motion complies with the Commission Rules. The ALJ found that termination of the investigation is in the public interest inasmuch as termination would conserve public and private resources. The ALJ granted the motion. No party petitioned for review of the subject ID. The Commission has determined not to review the ID.

The authority for the Commission's determination is contained in section 337 of the Tariff Act of 1930, as amended (19 U.S.C. 1337), and in Part 210 of the Commission's Rules of Practice and Procedure (19 CFR Part 210).

Issued: November 17, 2014.
By order of the Commission.
Lisa R. Barton,
Secretary to the Commission.

[FR Doc. 2014-27472 Filed 11-19-14; 8:45 am]

BILLING CODE 7020-02-P